ENVIRONMENTAL PROTECTION AGENCY

[EPA-HQ-OGC-2021-0351; FRL-10024-26-OGC]

Proposed Consent Decree, Clean Air Act Citizen Suit

AGENCY: Environmental Protection Agency (EPA).

ACTION: Notice of proposed consent decree; request for public comment.

SUMMARY: In accordance with section the Clean Air Act, as amended (“CAA” or the “Act”), notice is given of a proposed consent decree in Association of Irritated Residents v. EPA, No. 4:21-cv-426-JST (N.D. CA.). On January 17, 2021, Plaintiff filed a complaint in the United States District Court for the Northern District of California, Oakland Division, alleging that the Environmental Protection Agency (EPA) failed to perform several mandatory duties under the CAA. On May 10, 2019, the State of California submitted a SIP revision to EPA with two components titled “2018 Plan for the 1997, 2006, and 2012 PM2.5 Standards” and “San Joaquin Valley Supplement to the 2016 State Strategy for the State Implementation Plan” (together, the “SJV PM2.5 Plan”) to address CAA requirements for attainment of the PM2.5 NAAQS in the SJV Area. The SJV PM2.5 Plan includes measures intended to control emissions of fine particulate matter and its precursors within the San Joaquin Valley for purposes of attaining the 1997 annual and 24-hour PM2.5 NAAQS, 2006 24-hour PM2.5 NAAQS and 2012 annual PM2.5 NAAQS. The proposed consent decree would establish deadlines for EPA to take final actions on the portions of the SJV PM2.5 Plan that address requirements for the various PM2.5 NAAQS by specific dates.

DATES: Written comments on the proposed consent decree must be received by July 6, 2021.

ADDRESSES: Submit your comments, identified by Docket ID number EPA-HQ-OGC-2021-0351, online at https://www.regulations.gov (EPA's preferred method). Follow the online instructions for submitting comments.

Instructions: All submissions received must include the Docket ID number for this action. Comments received may be posted without change to https://www.regulations.gov, including any personal information provided. For detailed instructions on sending comments and additional information on the rulemaking process, see the “Additional Information about Commenting on the Proposed Consent Decree” heading under the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov, as there may be a delay in processing mail and faxes. Hand-deliveries and couriers may be received by scheduled appointment only. For further information on EPA Docket Center services and the current status, please visit us online at https://www.epa.gov/dockets.

EPA continues to carefully and continuously monitor information from the CDC, local area health departments, and our federal partners so that we can respond rapidly as conditions change regarding COVID-19.

FOR FURTHER INFORMATION CONTACT: Geoffrey L. Wilcox, Air and Radiation Law Office (2344A), Office of General Counsel, U.S. Environmental Protection Agency, 1200 Pennsylvania Ave. NW, Washington, DC 20460; telephone: (202) 564-5601; email address: wilcox.geoffrey@epa.gov.

SUPPLEMENTARY INFORMATION:

I. Obtaining a Copy of the Proposed Consent Decree

The official public docket for this action (identified by Docket ID No. EPA-HQ-OGC-2021-0351) contains a copy of the proposed consent decree.

The electronic version of the public docket for this action contains a copy of the proposed consent decree and is available through https://www.regulations.gov. You may use https://www.regulations.gov to submit or view public comments, access the index listing of the contents of the official public docket, and access those documents in the public docket that are available electronically. Once in the system, key in the appropriate docket identification number then select “search.”

II. Additional Information About the Proposed Consent Decree

The proposed consent decree would establish deadlines for EPA to take final actions pursuant to the CAA. First, the proposed consent decree would establish a deadline for EPA to take action pursuant to CAA section 110(k)(2)-(4) to approve, disapprove, conditionally approve, or approve in part and disapprove in part the SJV PM2.5 Plan's 2006 24-hour PM2.5 NAAQS Serious area plan contingency measures element. The proposed consent decree would require EPA to take action on the SIP submission for this requirement by no later than November 30, 2021.

Second, the proposed consent decree would establish a deadline for EPA to take final action pursuant to CAA section 110(k)(2)-(4) to approve, disapprove, conditionally approve, or approve in part and disapprove in part, the SJV PM2.5 Plan's 1997 24-hour PM2.5 NAAQS Serious area and CAA section 189(d) plan. The proposed consent decree would require EPA to take action on the SIP submission for these requirements by no later than February 28, 2022.

Third, the proposed consent decree would establish a deadline for EPA to take final action pursuant to CAA section 110(k)(2)-(4) to approve, disapprove, conditionally approve, or approve in part and disapprove in part, the SJV PM2.5 Plan's 2012 annual PM2.5 NAAQS Serious area plan. The proposed consent decree would require EPA to take action on the SIP submission for these requirements by no later than April 29, 2022.

In accordance with section 113(g) of the CAA, for a period of thirty (30) days following the date of publication of this document, the Agency will accept written comments relating to the proposed consent decree. EPA or the Department of Justice may withdraw or withhold consent to the proposed consent decree if the comments disclose facts or considerations that indicate that such consent is inappropriate, improper, inadequate, or inconsistent with the requirements of the Act.

III. Additional Information About Commenting on the Proposed Consent Decree

Submit your comments, identified by Docket ID No. EPA-HQ-OGC-2021-0351, via https://www.regulations.gov. Once submitted, comments cannot be edited or removed from this docket. EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

Please ensure that your comments are submitted within the specified comment period. Comments received after the close of the comment period will be marked “late.” EPA is not required to consider these late comments.

Gautam Srinivasan,
Associate General Counsel.

[FR Doc. 2021-11692 Filed 6-2-21; 8:45 am]

BILLING CODE 6560-50-P